DEPARTMENT OF HEALTH AND HUMAN SERVICES

National Institutes of Health

Statement of Organization, Functions, and Delegations of Authority

Part N, National Institutes of Health, of the Statement of Organization, Functions, and Delegations of Authority for the Department of Health and Human Services (HHS) (40 FR 22859, May 27, 1975, as amended most recently at 69 FR 64081, November 3, 2004, and redesignated from Part HN as Part N at 60 FR 56606, November 9, 1995), is amended as set forth below to reflect the consolidation of acquisitions activities at the National Institutes of Health (NIH). This change is designed to strengthen NIH's administrative structure in order to meet the goals and mission of NIH. The proposed reorganization is consistent with the agreement reached between HHS and NIH on consolidation of the acquisitions function.

Section N-B, Organization and Functions, under the heading National Cancer Institute (NC, formerly HNC), Office of the Director, Office of Management, is amended as follows:

Office of Acquisitions (NC17B, formerly HNC17B). (1) Manages and conducts a comprehensive program of all research and development contracting, non-research and development contracting, station support contracting, commercial item acquisitions using simplified acquisition procedures, GSA Federal Supply Schedule acquisitions and simplified acquisitions for customer institutes and centers (IC). (2) Provides advice and assistance regarding all phases of the acquisition cycle from planning to closeout with the purpose of accomplishing all acquisitions needed for the scientific mission and all related acquisitions required by its customers.

Treatment and Biology Sciences Branch (NC17B2, formerly HNC17B2). (1) Participates in planning research/research support contract programs for the Division of Cancer Treatment and Diagnosis, the Division of Cancer Biology, and the Center for Cancer Research; (2) advertises proposed acquisitions; (3) assists in reviewing contract proposals submitted in response to Requests for Proposals (RFPs); (4) negotiates and makes contract awards; and (5) manages post-award business aspects of contracts, and assists Project Officers in managing scientific aspects of those contracts.

Purchasing and Support Acquisition Branch (NC17B3, formerly HNC17B3). (1) Participates in the planning for non-research acquisitions for the NCI; (2) advertises, solicits proposals, assists in review, negotiations, and in making awards; (3) manages all business related aspects of the awards during the post-award phase, and assists Project Officers as necessary in their oversight and management of those awards.

Prevention, Control, and Population Sciences Branch (NC17B4, formerly HNC17B4). (1) Participates in planning research/research support contract programs for the Division of Cancer Prevention and the Division of Cancer Control and Population Sciences; (2) advertises proposed acquisitions; (3) assists in reviewing contract proposals submitted in response to Requests for Proposals (RFPs); (4) negotiates and makes contract awards; and (5) manages post-award business aspects of contracts, and assists Project Officers in managing scientific aspects of those contracts.

Epidemiology and Support Branch (NC17B5, formerly HNC17B5). (1) Participates in planning research/research support contract programs for the Division of Cancer Epidemiology and Genetics and the Office of the Director, NCI; (2) advertises proposed acquisitions; (3) assists in reviewing contract proposals submitted in response to Requests for Proposals (RFPs); (4) negotiates and makes contract awards; and (5) manages post-award business aspects of contracts, and assists Project Officers in managing scientific aspects of those contracts.

FCRDC Management Operations and Support Branch (NC17B6, formerly HNC17B6). (1) Participates in planning the research and research support contract programs for the National Cancer Institute—Frederick Cancer Research and Development Center (NCI-FCRDC; also, Center); (2) directs the administrative and business operations of the Center; (3) administers a system of research contracts for the management and operation of the Center; (4) develops acquisition plans and conducts recompetitions, evaluations, and awards of the contracts that support the operation of the Center; (5) manages the utilization of space, the maintenance of all buildings and grounds, and the use and provision of other resources and services needed by the research programs at the FCRDC; and, (6) assists the Office of the Director, NCI, in managing the scientific aspects of those contracts.

Section N-B, Organization and Functions, under the heading National Heart, Lung, and Blood Institute (NH, formerly HNH), Division of Extramural Affairs, is amended as follows:

Office of Acquisitions (NH54, formerly HNH54). (1) Manages and conducts a comprehensive program of all research and development contracting, non-research and development contracting, station support contracting, commercial item acquisitions using simplified acquisition procedures, GSA Federal Supply Schedule acquisitions and simplified acquisitions for customer ICs. (2) Provides advice and assistance regarding all phases of the acquisition cycle from planning to closeout with the purpose of accomplishing all acquisitions needed for the scientific mission and all related acquisitions required by its customers.

Heart, Lung, and Vascular Diseases Branch (NH542, formerly HNH542). (1) Plans, manages and carries out research and development contracting activities in support of the National Heart, Lung, and Blood Institute (NHLBI) and its Customer ICs' scientific missions, including the solicitation, negotiation, coordination, awarding, and monitoring of all actions; (2) works with program staff and provides advice and guidance to support their research activities in the most effective and efficient manner; (3) develops guidelines, procedures, and internal controls to ensure proper and continuing implementation of NIH and other applicable policies, laws and regulations; (4) coordinates with other Branches within the NHLBI Office of Acquisitions and elsewhere at NIH to develop new approaches and identify and implement best practices; and (5) provides liaison support and representation to the greater NIH acquisition community.

Blood Diseases and Resources/NIAMS Branch (NH544, formerly HNH544). (1) Plans, manages and carries out research and development contracting activities in support of the NHLBI and its Customer ICs' scientific missions, including the solicitation, negotiation, coordination, awarding, and monitoring of all actions; (2) works with program staff and provides advice and guidance to support their research activities in the most effective and efficient manner; (3) develops guidelines, procedures, and internal controls to ensure proper and continuing implementation of NIH and other applicable policies, laws and regulations; (4) coordinates with other Branches within the NHLBI Office of Acquisitions and elsewhere at NIH to develop new approaches and identify and implement best practices; and (5) provides liaison support and representation to the greater NIH acquisition community.

Epidemiology and Clinical Applications/WHI Branch (NH545, formerly HNH545). (1) Plans, manages and carries out research and development contracting activities in support of the NHLBI and its Customer ICs' scientific missions, including the solicitation, negotiation, coordination, awarding, and monitoring of all actions; (2) works with program staff and provides advice and guidance to support their research activities in the most effective and efficient manner; (3) develops guidelines, procedures, and internal controls to ensure proper and continuing implementation of NIH and other applicable policies, laws and regulations; (4) coordinates with other Branches within the NHLBI Office of Acquisitions and elsewhere at NIH to develop new approaches and identify and implement best practices; and (5) provides liaison support and representation to the greater NIH acquisition community.

Procurement Branch (NH546, formerly HNH546). (1) Plans, manages and carries out simplified acquisitions and station support contracting activities to support the NHLBI and its Customer ICs' scientific missions; (2) works with program staff and provides advice and guidance to support their research activities in the most effective and efficient manner; (3) develops guidelines, procedures, and internal controls to ensure proper and continuing implementation of NIH and other applicable policies, laws and regulations; (4) coordinates with other Branches within the NHLBI Office of Acquisitions and elsewhere at NIH to develop new approaches and identify and implement best practices; and (5) provides liaison support and representation to the greater NIH acquisition community.

Section N-B, Organization and Functions, under the heading National Institute of Allergy and Infectious Diseases (NM, formerly HNM), Division of Extramural Activities, is amended as follows:

Office of Acquisitions (NM74, formerly HNM74). (1) Manages and conducts a comprehensive program of all research and development contracting, non-research and development contracting, station support contracting, commercial item acquisitions using simplified acquisition procedures, GSA Federal Supply Schedule acquisitions and simplified acquisitions for customer ICs. (2) Provides advice and assistance regarding all phases of the acquisition cycle from planning to closeout with the purpose of accomplishing all acquisitions needed for the scientific mission and all related acquisitions required by its customers.

Acquisition Policy and Evaluation Branch (NM742, formerly HNM742). (1) Is responsible for the interpretation, development, implementation, and evaluation of Federal policies, standards, and procedures pertaining to research and development contracting operations that support the National Institute of Allergy and Infectious Diseases (NIAID) mission; (2) provides business management services, legal advice, and interpretation for OA staff and NIAID senior management officials; and (3) provides internal controls, reviews OA staff work products, and develops best practices and supporting tools for OA and scientific program staff.

Program Management and Operations Branch (NM748, formerly HNM748). (1) Coordinates all OA operating and management activities; (2) ensures that the policies, procedures, and processes developed by the Acquisition Policy and Evaluation Branch are implemented consistently throughout the OA; (3) develops, deploys, and coordinates the use and management of electronic information systems utilized by OA staff in the execution of eCommerce activities; evaluates best practices, and develops reporting tools for use in monitoring the operation of the OA; (4) is responsible for all administrative functions of the OA including personnel recruitment, training, and allocation of resources; and (5) is responsible for all contract closeout activities.

AIDS Research Contracts Branch (NM749, formerly HNM749). (1) Develops innovative solutions for the planning and formulation of biomedical and behavioral research and development initiatives providing complex support services, clinical trials, and advanced product development contracts supporting the scientific mission of the NIAID; (2) identifies and implements best practices to negotiate, coordinate, monitor, and administer contracts from cradle to grave; and (3) provides business management services to scientific division clients and assists Project Officers in the monitoring of technical performance of contracts.

Microbiology and Infectious Diseases Research Contracts Branch A (NM74A, formerly HNM74A). (1) Develops innovative solutions for the planning and formulation of biomedical and behavioral research and development initiatives providing complex support services, clinical trials, and advanced product development contracts supporting the scientific mission of the NIAID; (2) identifies and implements best practices to negotiate, coordinate, monitor, and administer contracts from inception to completion; and (3) provides business management services to scientific division clients and assists Project Officers in the monitoring of technical performance of contracts.

Microbiology and Infectious Diseases Research Contracts Branch B (NM74B, formerly HNM74B). (1) Develops innovative solutions for the planning and formulation of biomedical and behavioral research and development initiatives providing complex support services, clinical trials, and advanced product development contracts supporting the scientific mission of the NIAID; (2) identifies and implements best practices to negotiate, coordinate, monitor, and administer contracts from inception to completion; and (3) provides business management services to scientific division clients and assists Project Officers in the monitoring of technical performance of contracts.

Allergy, Immunology, and Transplantation Research Contracts Branch (NM74C, formerly HNM74C). (1) Develops innovative solutions for the planning and formulation of biomedical and behavioral research and development initiatives providing complex support services, clinical trials, and advanced product development contracts supporting the scientific mission of the NIAID; (2) identifies and implements best practices to negotiate, coordinate, monitor, and administer contracts from inception to completion; and (3) provides business management services to scientific division clients and assists Project Officers in the monitoring of technical performance of contracts.

Acquisition Management and Operations Branch (NM74D, formerly HNM74D). (1) Develops innovative solutions for the planning and formulation of station support contracts, and all simplified acquisition procedures supporting the scientific mission of the Division of Intramural Research and Office of the Director, NIAID; (2) identifies and implements best practices to negotiate, award, monitor and administer all business aspects of procurements for support services, equipment, and supplies; and (3) develops guidelines, procedures, and internal controls to implement Federal procurement policy related to small purchases and delegated procurement.

Section N-B, Organization and Functions, under the heading National Institute of Diabetes and Digestive and Kidney Diseases (NK, formerly HNK), Division of Extramural Activities, is amended as follows:

Office of Acquisitions (NK7-6, formerly HNK7-6). (1) Manages and conducts a comprehensive program of all research and development contracting, non-research and development contracting, station support contracting, commercial item acquisitions using simplified acquisition procedures, GSA Federal Supply Schedule acquisitions and simplified acquisitions for customer ICs. (2) Provides advice and assistance regarding all phases of the acquisition cycle from planning to closeout with the purpose of accomplishing all acquisitions needed for the scientific mission and all related acquisitions required by its customers.

NIDDK Research and Development Contracts Management Branch (NK7-62, formerly HNK7-62). (1) Plans, manages and carries out research and development contracting activities in support of the scientific missions, including the solicitation, negotiation, coordination, awarding, and monitoring of all actions; (2) works with program staff and provides advice and guidance to support their research activities in the most effective and efficient manner; (3) develops guidelines, procedures, and internal controls to ensure proper and continuing implementation of NIH and other applicable policies, laws and regulations; (4) coordinates with other branches within the Office of Acquisitions and elsewhere at NIH to develop new approaches and identify and implement best practices; and (5) provides liaison support and representation to the greater NIH acquisition community.

Station Support Branch (NK7-63, formerly HNK7-63). (1) Plans, manages and carries out simplified acquisitions and station support contracting activities to support the scientific missions; (2) works with program staff and provides advice and guidance to support their research activities in the most effective and efficient manner; (3) develops guidelines, procedures, and internal controls to ensure proper and continuing implementation of NIH and other applicable policies, laws and regulations; (4) coordinates with other branches within the Office of Acquisitions and elsewhere at NIH to develop new approaches and identify and implement best practices; and (5) provides liaison support and representation to the greater NIH acquisition community.

NIAAA Research and Development Contracts Management Branch (NK7-64, formerly HNK7-64). (1) Plans, manages and carries out research and development contracting activities in support of the scientific missions, including the solicitation, negotiation, coordination, awarding, and monitoring of all actions; (2) works with program staff and provides advice and guidance to support their research activities in the most effective and efficient manner; (3) develops guidelines, procedures, and internal controls to ensure proper and continuing implementation of NIH and other applicable policies, laws and regulations; (4) coordinates with other branches within the Office of Acquisitions and elsewhere at NIH to develop new approaches and identify and implement best practices; and (5) provides liaison support and representation to the greater NIH acquisition community.

NICHD Research and Development Contracts Management Branch (NK7-65, formerly HNK7-65). (1) Plans, manages and carries out research and development contracting activities in support of the scientific missions, including the solicitation, negotiation, coordination, awarding, and monitoring of all actions; (2) works with program staff and provides advice and guidance to support their research activities in the most effective and efficient manner; (3) develops guidelines, procedures, and internal controls to ensure proper and continuing implementation of NIH and other applicable policies, laws and regulations; (4) coordinates with other branches within the Office of Acquisitions and elsewhere at NIH to develop new approaches and identify and implement best practices; and (5) provides liaison support and representation to the greater NIH acquisition community.

Section N-B, Organization and Functions, under the heading National Institute on Drug Abuse (N6, formerly HN6), Office of the Director, is amended as follows:

Office of Acquisitions (N616, formerly HN616). (1) Manages and conducts a comprehensive program of all research and development contracting, non-research and development contracting, station support contracting, commercial item acquisitions using simplified acquisition procedures, GSA Federal Supply Schedule acquisitions and simplified acquisitions for customer ICs. (2) Provides advice and assistance regarding all phases of the acquisition cycle from planning to closeout with the purpose of accomplishing all acquisitions needed for the scientific mission and all related acquisitions required by its customers.

Research and Development Contracts Management Branch A (N6162, formerly HN6162). (1) Plans, manages and carries out research and development contracting activities in support of the neurosciences scientific missions, including the solicitation, negotiation, coordination, awarding, and monitoring of all actions; (2) works with program staff and provides advice and guidance to support their research activities in the most effective and efficient manner; (3) develops guidelines, procedures, and internal controls to ensure proper and continuing implementation of NIH and other applicable policies, laws and regulations; (4) coordinates with other branches within the Neurosciences Office of Acquisitions and elsewhere at NIH to develop new approaches and identify and implement best practices; and (5) provides liaison support and representation to the greater NIH acquisition community.

Research and Development Contracts Management Branch B (N6163, formerly HN6163). (1) Plans, manages and carries out research and development contracting activities in support of the neurosciences scientific missions, including the solicitation, negotiation, coordination, awarding, and monitoring of all actions; (2) works with program staff and provides advice and guidance to support their research activities in the most effective and efficient manner; (3) develops guidelines, procedures, and internal controls to ensure proper and continuing implementation of NIH and other applicable policies, laws and regulations; (4) coordinates with other branches within the Neurosciences Office of Acquisitions and elsewhere at NIH to develop new approaches and identify and implement best practices; and (5) provides liaison support and representation to the greater NIH acquisition community.

Research and Development Contracts Management Branch C (N6164, formerly HN6164). (1) Plans, manages and carries out research and development contracting activities in support of the neurosciences scientific missions, including the solicitation, negotiation, coordination, awarding, and monitoring of all actions; (2) works with program staff and provides advice and guidance to support their research activities in the most effective and efficient manner; (3) develops guidelines, procedures, and internal controls to ensure proper and continuing implementation of NIH and other applicable policies, laws and regulations; (4) coordinates with other branches within the Neurosciences Office of Acquisitions and elsewhere at NIH to develop new approaches and identify and implement best practices; and (5) provides liaison support and representation to the greater NIH acquisition community.

Consolidated Station Support/Simplified Acquisitions Branch (N6165, formerly HN6165). (1) Plans, manages and carries out simplified acquisitions and station support contracting activities to support the neurosciences scientific missions; (2) works with program staff and provides advice and guidance to support their research activities in the most effective and efficient manner; (3) develops guidelines, procedures, and internal controls to ensure proper and continuing implementation of NIH and other applicable policies, laws and regulations; (4) coordinates with other branches within the Neurosciences Office of Acquisitions and elsewhere at NIH to develop new approaches and identify and implement best practices; and (5) provides liaison support and representation to the greater NIH acquisition community.

Section N-B, Organization and Functions, under the heading National Institute of Environmental Health Sciences (NV, formerly HNV), Office of the Director, Office of Management, is amended as follows:

Office of Acquisitions (NV126, formerly HNV126). (1) Manages and conducts a comprehensive program of all research and development contracting, non-research and development contracting, station support contracting, commercial item acquisitions using simplified acquisition procedures, GSA Federal Supply Schedule acquisitions and simplified acquisitions for customer ICs. (2) Provides advice and assistance regarding all phases of the acquisition cycle from planning to closeout with the purpose of accomplishing all acquisitions needed for the scientific mission and all related acquisitions required by its customers.

Section N-B, Organization and Functions, under the heading National Library of Medicine (NL, formerly HNL), Office of the Director, Office of Administration, is amended as follows:

Office of Acquisitions (NL123, formerly HNL123). (1) Manages and conducts a comprehensive program of all research and development contracting, non-research and development contracting, station support contracting, commercial item acquisitions using simplified acquisition procedures, GSA Federal Supply Schedule acquisitions and simplified acquisitions for customer ICs. (2) Provides advice and assistance regarding all phases of the acquisition cycle from planning to closeout with the purpose of accomplishing all acquisitions needed for the scientific mission and all related acquisitions required by its customers.

Contracts Branch 1 (NL1232, formerly HNL1232). (1) Plans, manages and carries out research and development contracting and consolidated station support/simplified acquisitions activities in support of the NLM missions and client service centers, including the solicitation, negotiation, coordination, awarding, and monitoring of all actions; (2) works with program staff and provides advice and guidance to support their activities in the most effective and efficient manner; (3) develops guidelines, procedures, and internal controls to ensure proper and continuing implementation of NIH and other applicable policies, laws and regulations; (4) coordinates with other branches within the NLM Office of Acquisitions Management and elsewhere at NIH to develop new approaches and identify and implement best practices; and (5) provides liaison support and representation to the greater NIH acquisition community.

Contracts Branch 2 (NL1233, formerly HNL1233). (1) Plans, manages and carries out research and development contracting and consolidated station support/simplified acquisitions activities in support of the NLM missions and client service centers, including the solicitation, negotiation, coordination, awarding, and monitoring of all actions; (2) works with program staff and provides advice and guidance to support their activities in the most effective and efficient manner; (3) develops guidelines, procedures, and internal controls to ensure proper and continuing implementation of NIH and other applicable policies, laws and regulations; (4) coordinates with other branches within the NLM Office of Acquisitions Management and elsewhere at NIH to develop new approaches and identify and implement best practices; and (5) provides liaison support and representation to the greater NIH acquisition community.

Contracts Branch 3 (NL1234, formerly HNL1234). (1) Plans, manages and carries out research and development contracting and consolidated station support/simplified acquisitions activities in support of the NLM missions and client service centers, including the solicitation, negotiation, coordination, awarding, and monitoring of all actions; (2) works with program staff and provides advice and guidance to support their activities in the most effective and efficient manner; (3) develops guidelines, procedures, and internal controls to ensure proper and continuing implementation of NIH and other applicable policies, laws and regulations; (4) coordinates with other branches within the NLM Office of Acquisitions Management and elsewhere at NIH to develop new approaches and identify and implement best practices; and (5) provides liaison support and representation to the greater NIH acquisition community.

Section N-B, Organization and Functions, under the heading National Library of Medicine (NL, formerly HNL), Office of the Director, Office of Office of the Chief Operating Officer, is amended as follows:

Office of Acquisitions (NJ126, formerly HNJ126). (1) Directs a centralized hospital contracting operation serving all departments of the Clinical Center; (2) provides advice and assistance to the management of all departments on procurement planning with responsibility for solicitation, evaluation, negotiation and award, contract administration, and contract closeout; and (3) is responsible for implementing Federal, Departmental, NIH, and local procurement laws, regulations, policies, and procedures in the accomplishment of the Clinical Center's procurement support activity.

Contracts Branch 1 (NJ1262, formerly HNJ1262). (1) Directs a centralized contracting branch serving various departments of the Clinical Center; (2) provides advice and assistance to the management of those departments on acquisition planning with responsibility for solicitation, evaluation, negotiation, award, contract administration, and contract closeout, and (3) is responsible for implementing Federal, Departmental, NIH and local acquisition laws, regulations, policies and procedures in the accomplishment of the Clinical Center's acquisition support activity.

Contracts Branch 2 (NJ1263, formerly HNJ1263). (1) Directs a centralized contracting branch serving various departments of the Clinical Center; (2) provides advice and assistance to the management of those departments on acquisition planning with responsibility for solicitation, evaluation, negotiation, award, contract administration, and contract closeout, and (3) is responsible for implementing Federal, Departmental, NIH and local acquisition laws, regulations, policies and procedures in the accomplishment of the Clinical Center's acquisition support activity.

Contracts Branch 3 (NJ1264, formerly HNJ1264). (1) Directs a centralized contracting branch serving various departments of the Clinical Center; (2) provides advice and assistance to the management of those departments on acquisition planning with responsibility for solicitation, evaluation, negotiation, award, contract administration, and contract closeout, and (3) is responsible for implementing Federal, Departmental, NIH and local acquisition laws, regulations, policies and procedures in the accomplishment of the Clinical Center's acquisition support activity.

Contracts Branch 4 (NJ1265, formerly HNJ1265). (1) Directs a centralized contracting branch serving various departments of the Clinical Center; (2) provides advice and assistance to the management of those departments on acquisition planning with responsibility for solicitation, evaluation, negotiation, award, contract administration, and contract closeout, and (3) is responsible for implementing Federal, Departmental, NIH and local acquisition laws, regulations, policies and procedures in the accomplishment of the Clinical Center's acquisition support activity.

Section N-B, Organization and Functions, under the heading Office of the Director (NA, formerly HNA), Office of Management, Office of Administration, Office of Logistics and Acquisition Operations, is amended as follows:

Office of Acquisitions (NAM278, formerly HNAM278). (1) Manages and conducts a comprehensive program of all research and development contracting, non-research and development contracting, station support contracting, commercial item acquisitions using simplified acquisition procedures, GSA Federal Supply Schedule acquisitions and simplified acquisitions for customer ICs. (2) Provides advice and assistance regarding all phases of the acquisition cycle from planning to closeout with the purpose of accomplishing all acquisitions needed for the scientific mission and all related acquisitions required by its customers.

Section N-B, Organization and Functions, under the heading Office of the Director (NA, formerly HNA), Office of Management, Office of Research Facilities Development and Operations, is amended as follows:

Office of Acquisitions (NAM95, formerly HNAM95). (1) Is the principal advisor to the NIH and expert on regulations, policies, procedures, and processes related to procurement of facilities operations, maintenance, and disaster relief; (2) leads and manages the NIH acquisition program for facilities maintenance, operations, and disaster relief services from acquisition through negotiation and contract award to contract closeout using the variety of contract instruments allowed under the FAR, HSAR and GSAM and other contract policies; (3) manages the evaluation of offers including the orchestration of the technical review; and (4) monitors and evaluates contract performance; negotiates and executes contract changes, resolves post-award issues, and terminates contracts, as appropriate. Provides advice, assistance and training in the areas of facilities maintenance, operations, and disaster relief contracting to NIH project officers and NIH institute, center, and office customers.

Real Estate Contracting Branch (NAM952, formerly HNAM952). (1) Is the principle advisor to the NIH on real property inventory strategies and market conditions and acquisition regulations, policies, procedures, and processes, related to leased property; (2) leads and manages the NIH real estate acquisition and accession activities from acquisition planning through negotiation and contract award to contract closeout using the variety of contract instruments allowed under the FAR, HSAR and GSAM; (3) manages the evaluation of offers including the orchestration of the technical review; (4) monitors and evaluates contract performance; negotiates and executes contract changes, resolves post-award issues, and terminates contracts, as appropriate; (5) prepares and processes real property purchase contracts, leases, and related legal documents through the DHHS Office of General Counsel; (6) prepares all documents and coordinates real property transfer and disposal actions through the U. S. General Services Administration; (7) manages and maintains lease files; and (8) is the NIH principal contracting area for all real property transactions.

Architecture, Engineering and Construction Contracting Branch (NAM953, formerly HNAM953). (1) Is the principal advisor to the NIH and expert on regulations, policies, procedures, and processes related to procurement of architecture, engineering, construction management, construction and building trade services; (2) leads and manages the NIH acquisition program for architecture, engineering and construction services from acquisition through negotiation and contract award to contract closeout using the variety of contract instruments allowed under the FAR, HSAR and GSAM and other contract policies; (3) manages the evaluation of offers including the orchestration of the technical review; (4) monitors and evaluates contract performance; negotiates and executes contract changes, resolves post-award issues, and terminates contracts, as appropriate; (5) provides advice, assistance and training in the areas of design and construction contracting to NIH project officers and NIH institute, center, and office customers; and (6) is NIH principal contracting area for all architecture and engineering and construction contracting.

Facilities Support Services Contracting Branch (NAM954, formerly HNAM954). (1) Is the principal advisor to the NIH and expert on regulations, policies, procedures, and processes related to procurement of facilities operations, maintenance, and disaster relief; (2) leads and manages the NIH acquisition program for facilities maintenance, operations, disaster relief and other related services and studies impacting NIH real property performance, functionality and appearance from acquisition through negotiation and contract award to contract closeout using the variety of contract instruments allowed under the FAR, HSAR and GSAM and other contract policies; (3) manages the evaluation of offers including the orchestration of the technical review; (4) monitors and evaluates contract performance; negotiates and executes contract changes, resolves post-award issues, and terminates contracts as appropriate; (5) provides advice, assistance and training in the areas of facilities maintenance, operations, and disaster relief contracting to NIH project officers and NIH Institute, Center, and Office customers; and (6) is NIH principal contracting area for facilities services and related contracting.

Delegations of Authority: All delegations and redelegations of authority to officers and employees of NIH that were in effect immediately prior to the effective date of this amendment and are consistent with this amendment shall continue in effect, pending further redelegation.

Dated: September 29, 2005.
Elias A. Zerhouni,
Director, National Institutes of Health.

[FR Doc. 05-21009 Filed 10-19-05; 8:45 am]

BILLING CODE 4140-01-P